DEPARTMENT OF TRANSPORTATION

Federal Highway Administration

[FHWA Docket No. FHWA-2000-8494]

Transportation Equity Act for the 21st Century; Implementation Guidance for Financial Plans of Mega Projects

AGENCY: Federal Highway Administration (FHWA), DOT.

ACTION: Notice of availability of guidance with request for comment.

SUMMARY: This document provides notice of the availability of implementation guidance on financial plans for Federal highway projects with an estimated total cost of $1 billion or more (mega projects). This guidance provides information and assistance to the States in preparing the annual financial plan for projects as required by section 1305(b) of the Transportation Equity Act for the 21st Century (TEA-21).

DATES: Comments must be submitted on or before March 2, 2001.

ADDRESSES: Mail or hand deliver comments to the docket number that appears in the heading of this document to the U.S. Department of Transportation, Dockets Management Facility, Room PL-401, 400 Seventh Street, SW., Washington, DC 20590, or submit electronically at http://dmses.dot.gov/submit. All comments should include the docket number that appears in the heading of this document. All comments received will be available for examination and copying at the above address from 9 a.m. to 5 p.m., e.t., Monday through Friday, except Federal holidays. Those desiring notification of receipt of comments must include a self-addressed, stamped postcard or you may print the acknowledgment page that appears after submitting comments electronically.

FOR FURTHER INFORMATION CONTACT: Ms. Carol Jacoby, Contract Administration Group Leader, HIPA-30, (202) 366-1561; or Mr. Harold Aikens, Office of the Chief Counsel, HCC-30, (202) 366-0791. Office hours are from 7:45 a.m. to 4:15 p.m., e.t., Monday through Friday, except Federal holidays.

SUPPLEMENTARY INFORMATION:

Electronic Access and Filing

You may submit or retrieve comments online through the Document Management System (DMS) at: http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site.

An electronic copy of this document may also be downloaded by using a computer, modem and suitable communications software from the Government Printing Office's Electronic Bulletin Board Service at (202) 512-1661. Internet users may also reach the Office of the Federal Register's home page at: http://www.nara.gov/fedreg and the Government Printing Office's web site at: http://www.access.gpo.gov/nara.

Availability of Guidance

The financial plan guidance may be obtained by calling (202) 366-1561 or may be viewed at the FHWA web page as follows: http://www.fhwa.dot.gov/infrastructure.

Background

Section 1305(b) of the TEA-21, Public Law 105-178, 112 Stat. 107 at 229, was signed into law on June 9, 1998, and modified 23 U.S.C. 106 by adding subsection (h), which requires that a recipient of Federal financial assistance for a project with an estimated total cost of $1 billion or more submit to the Secretary of Transportation an annual financial plan for the project. The TEA-21 requires that the plan be based on detailed annual estimates of the cost to complete the remaining elements of the project and on reasonable assumptions of future increases in the cost to complete the project. Current and potential funding shortfalls must be identified, and future financial resources must be committed to fund the completion of the project.

The content and format of the Initial Financial Plan, annual updates, and core exhibits is intended to encourage consistency in the way the documents are prepared. This consistency of content and format will allow for ease of understanding and review by the U.S. DOT Office of the Secretary, the Congress, the upper echelon of transportation executives, and professionals who routinely deal with these projects.

This guidance is effective immediately for all mega projects with construction less than fifty percent complete as of May 31, 2000. Revisions to this guidance may be made in the future after the initial implementation, and pending receipt of significant comments.

Authority: 23 U.S.C. 106(h) and 315; 49 CFR 1.48.

Issued on: January 2, 2001.
Kenneth R. Wykle,
Federal Highway Administrator.

[FR Doc. 01-393 Filed 1-4-01; 8:45 am]

BILLING CODE 4910-22-P